DEPARTMENT OF THE INTERIOR

Bureau of Ocean Energy Management, Regulation, and Enforcement

[Docket No. MMS-2010-OMM-0025]

BOEMRE Information Collection Activity: 1010-0112, Performance Measures Data, Revision of a Collection; Comment Request

AGENCY: Bureau of Ocean Energy Management, Regulation, and Enforcement (BOEMRE), Interior.

ACTION: Notice of a revision of an information collection (1010-0112).

SUMMARY: To comply with the Paperwork Reduction Act of 1995 (PRA), BOEMRE is inviting comments on a collection of information that we will submit to the Office of Management and Budget (OMB) for review and approval. The information collection request (ICR) concerns the paperwork requirements in the Performance Measures Data, Form MMS-131.

DATES: Submit written comments by November 8, 2010.

FOR FURTHER INFORMATION CONTACT: Cheryl Blundon, Regulations and Standards Branch at (703) 787-1607. You may also contact Cheryl Blundon to obtain a copy, at no cost, of the information collection. The form and its instructions are printed at the end of this notice.

ADDRESSES: You may submit comments by either of the following methods listed below.

• Electronically: Go to http://www.regulations.gov. In the entry titled Enter Keyword or ID, enter docket ID MMS-2010-OMM-0025 then click search. Follow the instructions to submit public comments and view supporting and related materials available for this collection. The BOEMRE will post all comments.

• E-mail: cheryl.blundon@mms.gov. Mail or hand-carry comments to the Department of the Interior; Bureau of Ocean Energy Management, Regulation, and Enforcement; Attention: Cheryl Blundon; 381 Elden Street, MS-4024; Herndon, Virginia 20170-4817. Please reference ICR 1010-0112 in your comment and include your name and return address.

SUPPLEMENTARY INFORMATION:

Title: Performance Measures Data, Form MMS-131.

OMB Control Number: 1010-0112.

Abstract: The Outer Continental Shelf (OCS) Lands Act (43 U.S.C. 1331 et seq.), as amended, requires the Secretary of the Interior to preserve, protect, and develop OCS oil, gas, and sulphur resources; make such resources available to meet the Nation's energy needs as rapidly as possible; balance orderly energy resources development with protection of the human, marine, and coastal environments; ensure the public a fair and equitable return on the resources offshore; and preserve and maintain free enterprise competition. These responsibilities are among those delegated to the BOEMRE. The BOEMRE generally issues regulations to ensure that operations in the OCS will meet statutory requirements; provide for safety and protect the environment; and result in diligent exploration, development, and production of OCS leases.

Beginning in 1991, BOEMRE has promoted, on a voluntary basis, the implementation of a comprehensive Safety and Environmental Management Program (SEMP) for the offshore oil and gas industry as a complement to current regulatory efforts to protect people and the environment during OCS oil and gas exploration and production activities.

From the beginning, BOEMRE, the industry as a whole, and individual companies realized that at some point they would want to know the effect of SEMP on safety and environmental management of the OCS. The natural consequence of this interest was the establishment of performance measures. The BOEMRE will be requesting OMB approval for a revision of the performance measures data on Form MMS-131. Respondents submit Form MMS-131 annually during the first quarter of each calendar year. This collection is considered a revision since BOEMRE is changing the way respondents will need to fill out the form. Respondents will break out the information quarterly on the form, but submittal will continue to be once a year. We have attached instructions and the revised form at the end of this document as an Appendix.

The responses to this collection of information are voluntary, although we consider the information to be critical for assessing the effects of the OCS Safety and Environmental Management Program. We can better focus our regulatory and research programs on areas where the performance measures indicate that operators are having difficulty meeting BOEMRE expectations. We are more effective in leveraging resources by redirecting research efforts, promoting appropriate regulatory initiatives, and shifting inspection program emphasis. Also, the responses will bring the United States into the mainstream with other nations' oil and gas regulatory authorities. Because the oil and gas development and production industry is international, operators at work domestically are also at work internationally. It is important for the BOEMRE to be able to compare injury and illness outcomes from domestic production to those outcomes from other domestic industries as well as to outcomes from hydrocarbon development and production activities elsewhere in the world.

Operators also use the data to make individual comparisons of their results to those of the industry as a whole and evaluate trends. Knowing how the offshore operators, as a group, are doing and where their own company ranks, provides company management with information to focus their own continuous improvement efforts. This leads to more cost-effective prevention actions and, therefore, better cost containment.

We will protect information from respondents considered proprietary under the Freedom of Information Act (5 U.S.C. 552) and its implementing regulations (43 CFR part 2) and under regulations at 30 CFR 250.197, “Data and information to be made available to the public or for limited inspection.” No items of a sensitive nature are collected. Responses are voluntary. We intend to release data collected on Form MMS-131 only in a summary format that is not company-specific.

Frequency: The frequency is annual, during the first quarter of the year.

Description of Respondents: Federal OCS oil and gas or sulphur lessees and/or operators.

Estimated Annual Reporting and Recordkeeping Hour Burden: The currently approved hour burden for Form MMS-131 is 280 hours. We estimate the public reporting burden for the revised form will average 10 hours per response. This includes the time for reviewing instructions, gathering and maintaining data, and completing and reviewing the information.

Estimated Annual Reporting and Recordkeeping Non-Hour Cost Burden: We have identified no non-hour cost burden associated with Form MMS-131.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BOEMRE Information Collection Clearance Office: Arlene Bajusz, (202) 208-7744.

Dated: June 25, 2010.
William S. Hauser,
Acting Chief, Office of Offshore Regulatory Programs.

Appendix

Instructions on how to fill out Form MMS-131—Performance Measures Data.

1. On the line titled, “Company Name(s),” enter the name(s) of the operating company(ies) that are the owners of the data that need to be entered on the remainder of this form.

2. Directly across from your entry on “Company Names,” please enter the name of the Bureau of Ocean Energy Management, Regulation, and Enforcement (BOEMRE) Region where your operating company(ies) have worked and generated the data to be entered on the remainder of this form.

3. On the line titled, “Operator Code(s),*” please enter all the known operator codes for the company name or names that you have entered above.

4. Directly across from your entry on “Operator Codes,” please enter the Calendar Year the data to be entered on the remainder of the form was generated.

5. On the line titled, “Contact Name,” please enter the name of your chosen contact person. This person should be knowledgeable about the data your company has submitted on this form as they will be the first person the BOEMRE contacts should the bureau have any questions about the data you have provided.

6. Directly across from your entry on “Contact Name,” please input an active, valid email address for your “Contact Name.”

7. Enter an active and valid telephone number on the line titled, “Telephone.” This telephone number should belong to your “Contact Name.”

8. Enter an active and valid fax number on the line titled, “Fax.” This fax number should be accessible to your “Contact Name.”

9. Enter the date this form was submitted to the BOEMRE on the line titled, “Date Submitted.”

10. On line A, in the column labeled, “Production Operations,” enter the total number of company employee recordable injuries and illnesses accrued in each of the four quarters of the calendar year. Only the total number of recordable injuries and illnesses suffered by operating company employees while they were in engaged in production operations may be entered here.

11. On line A, in the column labeled, “Drilling** Operations,” enter the total number of company employee recordable injuries and illnesses accrued in each of the four quarters of the calendar year. Only the total number of recordable injuries and illnesses suffered by operating company employees while they were engaged in drilling operations may be entered here.

12. On line A, in the column labeled, “Construction Operations,” enter the total number of company employee recordable injuries and illnesses accrued in each of the four quarters of the calendar year. Only the total number of recordable injuries and illnesses suffered by operating company employees while they were engaged in construction operations may be entered here.

13. On line B, in the column labeled, “Production Operations,” enter the total number of contract employee recordable injuries and illnesses accrued in each of the four quarters of the calendar year. Only the total number of recordable injuries and illnesses suffered by contract employees while they were engaged in production operations may be entered here.

14. On line B, in the column labeled, “Drilling** Operations,” enter the total number of contract employee recordable injuries and illnesses accrued in each of the four quarters of the calendar year. Only the total number of recordable injuries and illnesses suffered by contract employees while they were engaged in drilling operations may be entered here.

15. On line B, in the column labeled, “Construction Operations,” enter the total number of contract employee recordable injuries and illnesses accrued in each of the four quarters of the calendar year. Only the total number of recordable injuries and illnesses suffered by contract employees while they were engaged in construction operations may be entered here.

16. On line C, in the column labeled, “Production Operations,” enter the total number of company employee DART recordable injuries and illnesses accrued in each of the four quarters of the calendar year. Only the total number of DART recordable injuries and illnesses suffered by operating company employees while they were engaged in production operations may be entered here.

17. On line C, in the column labeled, “Drilling** Operations,” enter the total number of company employee DART recordable injuries and illnesses accrued in each of the four quarters of the calendar year. Only the total number of DART recordable injuries and illnesses suffered by operating company employees while they were engaged in drilling operations may be entered here.

18. On line C, in the column labeled, “Construction Operations,” enter the total number of company employee DART recordable injuries and illnesses accrued in each of the four quarters of the calendar year. Only the total number of DART recordable injuries and illnesses suffered by operating company employees while they were engaged in construction operations may be entered here.

19. On line D, in the column labeled, “Production Operations,” enter the total number of contract employee DART recordable injuries and illnesses accrued in each of the four quarters of the calendar year. Only the total number of DART recordable injuries and illnesses suffered by contract employees while they were engaged in production operations may be entered here.

20. On line D, in the column labeled, “Drilling** Operations,” enter the total number of contract employee DART recordable injuries and illnesses accrued in each of the four quarters of the calendar year. Only the total number of DART recordable injuries and illnesses suffered by contract employees while they were engaged in drilling operations may be entered here.

21. On line D, in the column labeled, “Construction Operations,” enter the total number of contract employee DART recordable injuries and illnesses accrued in each of the four quarters of the calendar year. Only the total number of DART recordable injuries and illnesses suffered by contract employees while they were engaged in construction operations may be entered here.

22. On line E, in the column labeled, “Production Operations,” enter the total number of hours that company employees worked on production operations during each of the four quarters of the calendar year.

23. On line E, in the column labeled, “Drilling** Operations,” enter the total number of hours company employees worked on drilling operations during each of the four quarters of the calendar year.

24. On line E, in the column labeled, “Construction Operations,” enter the total number of hours that company employees worked on construction operations during each of the four quarters of the calendar year.

25. On line F, in the column labeled, “Production Operations,” enter the total number of hours that contract employees worked on production operations during each of the four quarters of the calendar year.

26. On line F, in the column labeled, “Drilling** Operations,” enter the total number of hours contract employees worked on drilling operations during each of the four quarters of the calendar year.

27. On line F, in the column labeled, “Construction Operations,” enter the total number of hours that contract employees worked on construction operations during each of the four quarters of the calendar year.

28. On line G, enter the total number of EPA NPDES non-compliances experienced by the operating company during the calendar year.

29. On line H, for oil spills of less then 1 bbl:

a. Count every occurrence of such a spill individually and tally that sum. On line 1, enter the total number of oil spills less than 1 bbl that you have tallied.

For each individual spill, estimate the volume of oil lost. Sum the estimates for each spill and enter the final amount of oil lost (in bbls) on line 2.

Performance Measures Data
Provide Data on an Annual Basis for the Previous Calendar Year by March 31 of Each Year
Company Name(s)XXXXXXXXXXXXXXXXXXXXX BOEMRE RegionXXXXXXXXXXX
Operator Code(s)*XXXXXXXXXXXXXXXXXXXXX Calendar YearXXXXXXXXXXXXXX
Contact NameXXXXXXXXXXXXXXXXXXXXXXX E-mail AddressXXXXXXXXXXXXXX
TelephoneXXXXXXXXXXXXXXX FaxXXXXXXXXXXXX DateXXXXXXXXXXXX
SAFETY | PRODUCTION OPERATIONS | DRILLING** OPERATIONS | CONSTRUCTION OPERATIONS
A. No. of Company Employee Recordable Injuries/Illnesses | 1st QtrXXXXXX 2nd Qtr XXXXXX 3rd Qtr XXXXXX 4th Qtr XXXXXX | XXXXXX XXXXXX XXXXXX XXXXXX | XXXXXX XXXXXX XXXXXX XXXXXX
B. No. of Contract Employee Recordable Injuries/Illnesses | 1st QtrXXXXXX 2nd Qtr XXXXXX 3rd Qtr XXXXXX 4th Qtr XXXXXX | XXXXXX XXXXXX XXXXXX XXXXXX | XXXXXX XXXXXX XXXXXX XXXXXX
C. No. of Company Employee DART Injuries/Illnesses*** | 1st QtrXXXXXX 2nd Qtr XXXXXX 3rd Qtr XXXXXX 4th Qtr XXXXXX | XXXXXX XXXXXX XXXXXX XXXXXX | XXXXXX XXXXXX XXXXXX XXXXXX
D. No. of Contract Employee DART Injuries/Illnesses*** | 1st QtrXXXXXX 2nd Qtr XXXXXX 3rd Qtr XXXXXX 4th Qtr XXXXXX | XXXXXX XXXXXX XXXXXX XXXXXX | XXXXXX XXXXXX XXXXXX XXXXXX
E. Company Employee Hours Worked | 1st QtrXXXXXX 2nd Qtr XXXXXX 3rd Qtr XXXXXX 4th Qtr XXXXXX | XXXXXX XXXXXX XXXXXX XXXXXX | XXXXXX XXXXXX XXXXXX XXXXXX
F. Contract Employee Hours Worked | 1st QtrXXXXXX 2nd Qtr XXXXXX 3rd Qtr XXXXXX 4th Qtr XXXXXX | XXXXXX XXXXXX XXXXXX XXXXXX | XXXXXX XXXXXX XXXXXX XXXXXX
ENVIRONMENT
G. No. of EPA NPDES Noncompliances | XXXXXXXXX
H. For Oil Spills < 1 bbl
1. No. of Spills | XXXXXXXXX
2. Total Volume for Spills | XXXXXXX bbl
* Please list all operator codes that these data represent.
** Drilling Operations include Drilling, Workover, and Allied Services.
*** Formerly Lost Time Cases that include Days Away from work, Restricted duty and Transfer situations.
Paperwork Reduction Act of 1995 (PRA): The PRA (44 U.S.C. 3501 et seq.) requires us to inform you that BOEMRE collects this information to carry out its responsibilities under the OCS Lands Act, as amended. The BOEMRE will use the information to evaluate the effectiveness of industry's continued improvement of safety and environmental management in the OCS. Responses are voluntary. No proprietary data are collected. We estimate the public reporting burden, including the time for reviewing instructions, gathering and maintaining data, and completing and reviewing the information to average 10 hours per response. An agency may not conduct or sponsor, and a person is not required to respond to, a collection of information unless it displays a currently valid Office of Management and Budget (0MB) control number. The 0MB has approved this collection of information and assigned 0MB control number 1010-0112. You may direct comments regarding the burden estimate or any other aspect of this collection of information to the Information Collection Clearance Officer, Mail Stop 5438, Bureau of Ocean Energy Management, Regulation, and Enforcement, Department of the Interior, 1849 C Street, NW., Washington, DC 20240.
COMPANY-SPECIFIC DATA COLLECTED UNDER THIS REQUEST IS INTENDED FOR GOVERNNENT USE ONLY
BOEMRE Form MMS-131 (Mo/Year Replaces all previous editions that may not be used.)

[FR Doc. 2010-22186 Filed 9-3-10; 8:45 am]

BILLING CODE 4310-MR-P